ENVIRONMENTAL PROTECTION AGENCY

[FRL-7099-7]

Proposed Past Cost Administrative Settlement Under Section 122(h)(1) of the Comprehensive Environmental Response Compensation and Liability Act; In the Matter of Westmoor Drive Site, Kokomo, IN

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the Westmoor Drive site in Kokomo, Indiana. The settlement requires Helen Schifferi (“Settling Party”) to pay $2,000.00 to the Hazardous Substance Superfund, which represents the amount of U.S. EPA's documented past costs Settling Party is able to pay.

Under the terms of the settlement, Settling Party agrees to pay the settlement amount. In exchange for Settling Party's payment, the United States covenants not to sue or take administrative action pursuant to section 107(a) of CERCLA, 42 U.S.C. 9607(a), relating to the Site. In addition, Ms. Schifferli is entitled to protection from contribution actions or claims as provided by sections 113(f)(2) and 122(h)(4) of CERCLA, 42 U.S.C. 9613 (f)(2) and 9622(h)(4), for all response costs incurred and to be incurred by any person at the Site.

For thirty (30) days after the date of publication of this notice, the Agency will receive written comments relating to the settlement. The Agency will consider all comments received and may modify or withdraw its consent to the settlement if comments received disclose facts or considerations which indicate that the settlement is inappropriate, improper, or inadequate. The Agency's response to any comments received will be available for public inspection at EPA's Region 5 Office at 77 West Jackson Boulevard, Chicago, Illinois 60604, and at the Kokomo Howard County Public Library in Kokomo, Indiana.

DATES: Comments must be submitted on or before December 7, 2001.

ADDRESSES: The proposed settlement is available for public inspection at EPA's Record Center, 7th floor, 77 W. Jackson Blvd., Chicago, Illinois 60604. A copy of the proposed settlement may be obtained from Tamara Carnovsky, Assistant Regional Counsel, U.S. EPA, Mail Code C-14J, 77 W. Jackson Blvd., Chicago, Illinois, 60604, telephone (312) 886-2250. Comments should reference the Westmoor Drive Site, Kokomo, Indiana, and EPA Docket No. V-W-01-C-664, and should be addressed to Tamara Carnovsky, Assistant Regional Counsel, U.S. EPA, Mail Code C-14J, 77 W. Jackson Blvd., Chicago, Illinois 60604.

FOR FURTHER INFORMATION CONTACT: Tamara Carnovsky, Assistant Regional Counsel, U.S. EPA, Mail Code C-14J, 77 W. Jackson Blvd., Chicago, Illinois 60604, telephone (312) 886-2250.

Authority: The Comprehensive Environmental Response, Compensation, and Liability Act of 1980, as amended, 42 U.S.C. 9601, et. seq.

Dated: October 15, 2001.
William E. Muno,
Director, Superfund Division, Region 5.

[FR Doc. 01-27949 Filed 11-6-01; 8:45 am]

BILLING CODE 6560-50-P